DEPARTMENT OF ENERGY

Federal Energy Regulatory Commission

Combined Notice of Filings #1

August 5, 2008.

Take notice that the Commission received the following electric corporate filings:

Docket Numbers: EC08-59-001.

Applicants: Harbinger Capital Partners Master Fund I.

Description: Harbinger Capital Partners Master Fund I, Ltd informs FERC that on 3/21/08 filed an application with the FERC pursuant to Federal Power Act section 203 for any authorizations required for Harbinger etc.

Filed Date: 07/28/2008.

Accession Number: 20080730-0030.

Comment Date: 5 p.m. Eastern Time on Monday, August 18, 2008.

Take notice that the Commission received the following exempt wholesale generator filings:

Docket Numbers: EG08-85-000.

Applicants: Hardee Power Partners Limited.

Description: Hardee Power Partners Limited submits Notice of Self-Certification of Exempt Wholesale Generator Status.

Filed Date: 07/31/2008.

Accession Number: 20080804-0106.

Comment Date: 5 p.m. Eastern Time on Thursday, August 21, 2008.

Take notice that the Commission received the following electric rate filings:

Docket Numbers: ER98-1767-011.

Applicants: Tenaska Frontier Partners, Ltd.

Description: Tenaska Frontier Partners, Ltd submits Fourth Revised Sheet 1 et al. to FERC Electric Rate Schedule 1.

Filed Date: 07/23/2008.

Accession Number: 20080729-0211.

Comment Date: 5 p.m. Eastern Time on Wednesday, August 13, 2008.

Docket Numbers: ER99-2541-010; ER05-731-004; ER97-3556-018; ER04-582-008; ER97-3553-006; ER99-220-015; ER99-221-013; ER01-1764-007.

Applicants: Carthage Energy, LLC; Central Maine Power Company; Energetix, Inc.; Hartford Steam Company; Rochester Gas & Electric Corporation; NYSEG SOLUTIONS INC; New York State Electric & Gas Corp.; PEI Power II, LLC.

Description: The Energy East Companies submits First Revised Sheet 1 et al. to FERC Electric Tariff, Third Revised Volume 1, to be effective 7/31/08.

Filed Date: 07/30/2008.

Accession Number: 20080731-0219.

Comment Date: 5 p.m. Eastern Time on Wednesday, August 20, 2008.

Docket Numbers: ER00-895-009.

Applicants: Onondago Cogeneration Limited Partnership.

Description: Cancellation of Market-Based Rate Tariff, Conditional Withdrawal of Request for Category 1 Seller Status eratta, The Certificate of Service was inadvertently omitted from the filing.

Filed Date: 08/01/2008.

Accession Number: 20080801-5228.

Comment Date: 5 p.m. Eastern Time on Friday, August 22, 2008.

Docket Numbers: ER00-1712-009; ER02-2408-004; ER00-744-007; ER02-1327-006; ER00-1703-004; ER02-1749-004; ER02-1747-004; ER99-4503-006; ER00-2186-004; ER01-1559-005.

Applicants: PPL Electric Utilities Corporation; Lower Mount Bethel Energy, LLC; PPL Brunner Island, LLC; PPL Holtwood, LLC; PPL Martins Creek, LLC; PPL Montour, LLC; PPL Susquehanna, LLC; PPL University Park, LLC; PPL EnergyPlus, LLC; PPL Edgewood Energy, LLC; PPL Shoreham Energy, LLC; PPL Great Works, LLC; PPL Maine, LLC; PPL Wallingford Energy LLC.

Description: PPL Companies notifies FERC of a non-material change in the characteristics upon which FERC relied in granting them based rate authority.

Filed Date: 07/30/2008.

Accession Number: 20080801-0101.

Comment Date: 5 p.m. Eastern Time on Wednesday, August 20, 2008.

Docket Numbers: ER03-769-003.

Applicants: American PowerNet Management, LP.

Description: American PowerNet Management, LP submits charts showing that they do not own any generation and transmission assets.

Filed Date: 07/30/2008.

Accession Number: 20080801-0150.

Comment Date: 5 p.m. Eastern Time on Wednesday, August 20, 2008.

Docket Numbers: ER03-983-014.

Applicants: Fox Energy Company, LLC.

Description: Fox Energy Company, LLC submits Original Sheet 1 et al. to FERC Electric Tariff, First Revised Volume 1 to its tariff.

Filed Date: 07/30/2008.

Accession Number: 20080801-0102.

Comment Date: 5 p.m. Eastern Time on Wednesday, August 20, 2008.

Docket Numbers: ER04-230-037; ER04-230-038.

Applicants: New York Independent System Operator, Inc.

Description: New York Independent System Operator, Inc. submits an errata to correct ministerial errors or omissions to the tariff sheets filed 3/24/08.

Filed Date: 07/31/2008.

Accession Number: 20080801-0085.

Comment Date: 5 p.m. Eastern Time on Thursday, August 21, 2008.

Docket Numbers: ER04-714-020; ER04-714-020; EL05-89-009.

Applicants: Florida Power & Light Co New England; Florida Power & Light Company; Maine Public Utilities Commission v. Central Maine Power Company.

Description: Revised Refund Report pursuant to FERC Order dated March 24, 2008.

Filed Date: 08/01/2008.

Accession Number: 20080801-5229.

Comment Date: 5 p.m. Eastern Time on Friday, August 22, 2008.

Docket Numbers: ER06-560-002.

Applicants: Credit Suisse Energy LLC.

Description: Credit Suisse Energy, LLC submits First Revised Sheet 1 et al. to FERC Electric Rate Schedule 1, as a supplement to the 6/30/08 filing.

Filed Date: 07/31/2008.

Accession Number: 20080804-0101.

Comment Date: 5 p.m. Eastern Time on Thursday, August 21, 2008.

Docket Numbers: ER06-1014-006.

Applicants: New York Independent System Operator, Inc.

Description: New York Independent System Operator, Inc submits Price Validation Informational Report from the period 1/1/08 through 6/30/08 pursuant to FERC's 7/14/06 Order under ER06-1014.

Filed Date: 08/01/2008.

Accession Number: 20080805-0073.

Comment Date: 5 p.m. Eastern Time on Friday, August 22, 2008.

Docket Numbers: ER06-1402-001; ER06-1403-001; ER08-1213-001.

Applicants: Westmoreland Partners (ROVA I); Westmoreland Partners (ROVA II); Westmoreland Partners.

Description: Westmoreland Partners amends its 6/30/08 filing of a request for determination of a category 1 Seller Status and submit an errata to this filing.

Filed Date: 07/30/2008.

Accession Number: 20080804-0113.

Comment Date: 5 p.m. Eastern Time on Wednesday, August 20, 2008.

Docket Numbers: ER07-1105-005.

Applicants: Cedar Creek Wind Energy, LLC.

Description: Cedar Creek Wind Energy LLC submits notification of a non-material change in status with respect to its market based rate authority.

Filed Date: 07/30/2008.

Accession Number: 20080801-0103.

Comment Date: 5 p.m. Eastern Time on Wednesday, August 20, 2008.

Docket Numbers: ER07-1372-011.

Applicants: Midwest Independent Transmission System.

Description: Readiness Certification of Midwest Independent Transmission System Operator, Inc.

Filed Date: 07/25/2008.

Accession Number: 20080725-5085.

Comment Date: 5 p.m. Eastern Time on Friday, August 15, 2008.

Docket Numbers: ER07-1386-003.

Applicants: Tatanka Wind Power, LLC.

Description: Notice of Non-Material Change in Status of Tatanka Wind Power, LLC.

Filed Date: 08/01/2008.

Accession Number: 20080801-5063.

Comment Date: 5 p.m. Eastern Time on Friday, August 22, 2008.

Docket Numbers: ER07-1402-001.

Applicants: Allegheny Generating Company.

Description: Supplemental Information of Allegheny Generating Company.

Filed Date: 08/01/2008.

Accession Number: 20080801-5069.

Comment Date: 5 p.m. Eastern Time on Friday, August 22, 2008.

Docket Numbers: ER08-41-002.

Applicants: ISO New England Inc. and New England Power.

Description: ISO New England, Inc. et al. submits tariff sheets, and testimony of Peter K. Wong, and related materials regarding revisions to section 12.9 of Market Rule 1 etc.

Filed Date: 07/31/2008.

Accession Number: 20080804-0111.

Comment Date: 5 p.m. Eastern Time on Thursday, August 21, 2008.

Docket Numbers: ER08-100-003; ER07-265-003; ER07-1215-004.

Applicants: Sempra Energy Trading LLC; Sempra Energy Solutions LLC; The Royal Bank of Scotland plc.

Description: Sempra Energy Trading LLC et al. submits a notice of change in status in compliance with the reporting requirements set forth in section 35.42 of the regulations of FERC and Order 652.

Filed Date: 07/30/2008.

Accession Number: 20080801-0104.

Comment Date: 5 p.m. Eastern Time on Wednesday, August 20, 2008.

Docket Numbers: ER08-832-002.

Applicants: ISO New England Inc.

Description: PTO Administrative Committee et al. submit the proposed substitution and withdrawal of tariff sheets under Schedules 20A and 21 of the ISO New England Inc filed on 4/15/08.

Filed Date: 07/18/2008.

Accession Number: 20080731-0216.

Comment Date: 5 p.m. Eastern Time on Friday, August 8, 2008.

Docket Numbers: ER08-1094-001; ER08-1095-001; ER08-1097-001; ER08-1326-000; ER99-1213-011.

Applicants: NAEA Energy Massachusetts, LLC; NAEA Ocean Peaking Power, LLC; NAEA Rock Springs, LLC; NAEA Newington Energy, LLC; LAKEWOOD COGENERATION LP.

Description: NAEA Energy Massachusetts, LLC et al. submits revised market-based rate tariffs and revised reactive power and voltage control.

Filed Date: 07/23/2008.

Accession Number: 20080804-0126.

Comment Date: 5 p.m. Eastern Time on Wednesday, August 13, 2008.

Docket Numbers: ER08-1096-000.

Applicants: NAEA Lakewood Cogeneration, LP.

Description: Lakewood Cogeneration, LP request to withdraw the Notice and request to terminate the docket.

Filed Date: 07/02/2008.

Accession Number: 20080708-0008.

Comment Date: 5 p.m. Eastern Time on Tuesday, August 12, 2008.

Docket Numbers: ER08-1106-002; ER08-1106-001.

Applicants: MATL LLP.

Description: MATL LLP submits their responses to FERC's 7/25/08 Deficiency Letter.

Filed Date: 08/01/2008.

Accession Number: 20080805-0075.

Comment Date: 5 p.m. Eastern Time on Friday, August 22, 2008.

Docket Numbers: ER08-1294-000.

Applicants: Crystal Lake Wind II, LLC.

Description: Crystal Lake Wind II, LLC's request for authorization to sell energy and capacity at market-based rates.

Filed Date: 07/25/2008.

Accession Number: 20080731-0248.

Comment Date: 5 p.m. Eastern Time on Friday, August 15, 2008.

Docket Numbers: ER08-1308-001.

Applicants: Southwest Power Pool Inc.

Description: Southwest Power Pool, Inc. submits an errata to their 6/25/08 filing as Exhibit I and II of their Agreements pursuant to Order 614.

Filed Date: 07/31/2008.

Accession Number: 20080804-0102.

Comment Date: 5 p.m. Eastern Time on Thursday, August 21, 2008.

Docket Numbers: ER08-1316-001.

Applicants: Avista Corporation.

Description: Avista Corporation submits an errata to their 7/28/08 filing of revised tariff sheets amending existing non-conforming long-term service agreements.

Filed Date: 07/31/2008.

Accession Number: 20080804-0103.

Comment Date: 5 p.m. Eastern Time on Thursday, August 21, 2008.

Docket Numbers: ER08-1317-000.

Applicants: California Independent System Operator Corporation.

Description: California Independent System Operator Corporation submits an amendment to both the currently effective CAISO Tariff as well as their Market Redesign and Technology Upgrade Tariff.

Filed Date: 07/28/2008.

Accession Number: 20080801-0001.

Comment Date: 5 p.m. Eastern Time on Monday, August 18, 2008.

Docket Numbers: ER08-1318-000.

Applicants: Pacific Gas and Electric Company.

Description: Pacific Gas and Electric Co. submits proposed rate changes for wholesale and retail electric transmission rates, to be effective 10/1/08.

Filed Date: 07/30/2008.

Accession Number: 20080801-0164.

Comment Date: 5 p.m. Eastern Time on Wednesday, August 20, 2008.

Docket Numbers: ER08-1321-000.

Applicants: California Independent System Operator Corporation.

Description: California Independent System Operator Corp submits their notice regarding the CAISO's revised Transmission Access Charges, effective 4/4/08.

Filed Date: 07/30/2008.

Accession Number: 20080801-0110.

Comment Date: 5 p.m. Eastern Time on Wednesday, August 20, 2008.

Docket Numbers: ER08-1323-000.

Applicants: Fowler Ridge Wind Farm LLC.

Description: Application of Fowler Ridge Wind Farm LLC for order accepting market-based rate tariff, granting authorization and blanket authority and waiving certain requirements.

Filed Date: 08/01/2008.

Accession Number: 20080805-0072.

Comment Date: 5 p.m. Eastern Time on Friday, August 22, 2008.

Docket Numbers: ER08-1324-000.

Applicants: Southwest Power Pool, Inc.

Description: Southwest Power Pool Inc. submits an executed Service Agreement for Network Integration Transmission Service with Kansas Power Pool etc.

Filed Date: 07/30/2008.

Accession Number: 20080731-0212.

Comment Date: 5 p.m. Eastern Time on Wednesday, August 20, 2008.

Docket Numbers: ER08-1325-000.

Applicants: Southwest Power Pool, Inc.

Description: Southwest Power Pool Inc. submits an executed Service agreement for Network Integration Transmission Service with Associated Electric Cooperative Inc.

Filed Date: 07/30/2008.

Accession Number: 20080731-0213.

Comment Date: 5 p.m. Eastern Time on Wednesday, August 20, 2008.

Docket Numbers: ER08-1327-000.

Applicants: Pacific Gas and Electric Company.

Description: Pacific Gas and Electric Company submits Twenty-Second Quarterly Filing of Facilities Agreement (Revised Schedule FERC 114) with the City and County of San Francisco.

Filed Date: 07/31/2008.

Accession Number: 20080801-0134.

Comment Date: 5 p.m. Eastern Time on Thursday, August 21, 2008.

Docket Numbers: ER08-1329-000.

Applicants: American Electric Power Service Corporation.

Description: American Electric Power Service Corporation submits a proposal for increase in rates for transmission service including revised tariff sheets proposed to be included in the Open Access Transmission Tariff etc.

Filed Date: 07/31/2008.

Accession Number: 20080804-0189.

Comment Date: 5 p.m. Eastern Time on Thursday, August 21, 2008.

Docket Numbers: ER08-1330-000; ER08-1331-000; ER08-1332-000.

Applicants: Hot Spring Power Company, LLC; Chehalis Power Generating, LLC; Choctaw Gas Generation, LLC.

Description: Hot Spring Power Company, LLC et al. submit a Notice of Succession to notify the Commission of a corporate name change, and to adopt, as their own the FERC Electric Rate Schedules etc.

Filed Date: 07/31/2008.

Accession Number: 20080804-0110.

Comment Date: 5 p.m. Eastern Time on Thursday, August 21, 2008.

Docket Numbers: ER08-1333-000.

Applicants: Invenergy Cannon Falls LLC.

Description: Invenergy Cannon Falls LLC submits Original Sheet 1, to FERC Electric Tariff, Original Volume 2 with supporting cost data which specifies its revenue requirement for providing cost-based Reactive Supply and Voltage Control etc.

Filed Date: 07/31/2008.

Accession Number: 20080804-0109.

Comment Date: 5 p.m. Eastern Time on Thursday, August 21, 2008.

Docket Numbers: ER08-1334-000.

Applicants: Ameren Services Company as Agent for Union.

Description: Union Electric Co submits an executed service agreement for Wholesale Distribution Service with the City of Fredericktown, Missouri.

Filed Date: 07/31/2008.

Accession Number: 20080804-0108.

Comment Date: 5 p.m. Eastern Time on Thursday, August 21, 2008.

Docket Numbers: ER08-1335-000.

Applicants: Southern Company Services, Inc.

Description: Alabama Power Co et al. submit for filing a rollover network integration transmission service agreement with Southern Wholesale Energy.

Filed Date: 07/31/2008.

Accession Number: 20080804-0107.

Comment Date: 5 p.m. Eastern Time on Thursday, August 21, 2008.

Docket Numbers: ER08-1336-000.

Applicants: Energy Systems North East LLC.

Description: Energy Systems North East LLC submits an application for authorization to make market-based wholesale sales of energy capacity and ancillary service under FERC Electric Tariff 1 under ER08-1336.

Filed Date: 08/01/2008.

Accession Number: 20080805-0076.

Comment Date: 5 p.m. Eastern Time on Friday, August 22, 2008.

Docket Numbers: ER08-1337-000.

Applicants: PJM Interconnection, LLC.

Description: PJM Interconnection, LLC submits an executed Wholesale Market Participation Agreement.

Filed Date: 07/31/2008.

Accession Number: 20080804-0127.

Comment Date: 5 p.m. Eastern Time on Thursday, August 21, 2008.

Docket Numbers: ER08-1338-000.

Applicants: Southwest Power Pool, Inc.

Description: Southwest Power Pool, Inc. files revised tariff sheets amending Schedule 1-A of the Open Access Transmission Tariff in order to increase the rate cap for its Tariff Administration Service Charge.

Filed Date: 07/31/2008.

Accession Number: 20080804-0128.

Comment Date: 5 p.m. Eastern Time on Thursday, August 21, 2008.

Docket Numbers: ER08-1339-000.

Applicants: PJM Interconnection, LLC.

Description: PJM Interconnection, LLC submits service agreements.

Filed Date: 07/31/2008.

Accession Number: 20080804-0129.

Comment Date: 5 p.m. Eastern Time on Thursday, August 21, 2008.

Docket Numbers: ER08-1340-000; ER08-1341-000; ER08-1342-000.

Applicants: Florida Power & Light Company; Progress Energy Florida; Tampa Electric Company.

Description: Florida Reserve Sharing Group et al. submit the Florida Sharing Group Agreement.

Filed Date: 07/31/2008.

Accession Number: 20080804-0130.

Comment Date: 5 p.m. Eastern Time on Thursday, August 21, 2008.

Docket Numbers: ER08-1343-000.

Applicants: Southern California Edison Company.

Description: Southern California Edison Co. submits a revision to its Transmission Owner Tariff FERC Electric Tariff, Second Revised Volume to reflect proposed changes to its revenue requirements etc. under ER08-1343. Volume 1, General Information.

Filed Date: 08/01/2008.

Accession Number: 20080804-0204.

Comment Date: 5 p.m. Eastern Time on Friday, August 22, 2008.

Docket Numbers: ER08-1344-000.

Applicants: Reliant Energy Mid-Atlantic Power Holdings.

Description: Reliant Energy Mid-Atlantic Power Holdings, LLC submits a Notice of Cancellation of their market-based rate tariff and a revised sheet indicating the cancellation of Third Revised Sheet 1 to FERC Electric Tariff 2nd Revised Volume 1 under ER08-1344.

Filed Date: 08/01/2008.

Accession Number: 20080804-0234.

Comment Date: 5 p.m. Eastern Time on Friday, August 22, 2008.

Docket Numbers: ER08-1345-000.

Applicants: PJM Interconnection, LLC.

Description: PJM Interconnection, LLC submits an agreement with the Midwest Independent Transmission System Operator, Inc. concerning the use of capacity committed to serve the needs of loads in the transmission zone etc., ER08-1345.

Filed Date: 08/01/2008.

Accession Number: 20080804-0233.

Comment Date: 5 p.m. Eastern Time on Friday, August 22, 2008.

Docket Numbers: ER08-1346-000.

Applicants: New England Power Pool.

Description: The New England Power Pool Participants Committee submits counterpart signature pages of the New England Power Pool Agreement with ESPI New England, Inc. et al. under ER08-1346.

Filed Date: 08/01/2008.

Accession Number: 20080804-0232.

Comment Date: 5 p.m. Eastern Time on Friday, August 22, 2008.

Docket Numbers: ER08-1347-000; ER00-895-009.

Applicants: Onodaga Cogeneration Limited Partnership.

Description: Onondaga Cogeneration Limited Partnership submits a notice canceling their market-based rate tariff, Substitute Original Sheet 1 to FERC Electric Tariff, Original Volume 1, effective 8/4/08 under ER08-1347 et al.

Filed Date: 08/01/2008.

Accession Number: 20080804-0231; 20080801-5228.

Comment Date: 5 p.m. Eastern Time on Friday, August 22, 2008.

Docket Numbers: ER08-1349-000.

Applicants: California Independent System Operator C.

Description: California Independent System Operator Corporation's informational filing that provides notice regarding their revised Transmission Access Charges effective 4/23/08 under ER08-1349.

Filed Date: 08/01/2008.

Accession Number: 20080804-0229.

Comment Date: 5 p.m. Eastern Time on Friday, August 22, 2008.

Docket Numbers: ER08-1350-000.

Applicants: Sempra Energy Solutions LLC, San Diego Gas & Electric Company.

Description: San Diego Gas & Electric Co's et al. application for limited authorization of affiliate transactions, waiver of prior authorization requirement concerning certain sales and purchases of wholesale capacity by affiliated entities, ER08-1350.

Filed Date: 08/01/2008.

Accession Number: 20080804-0228.

Comment Date: 5 p.m. Eastern Time on Friday, August 22, 2008.

Docket Numbers: ER08-1352-000.

Applicants: Alabama Power Company.

Description: Alabama Power Co. submits Revision 11 to Rate Schedule MUN-1 of FERC Electric Tariff, Original Volume 1 under ER08-1352.

Filed Date: 08/01/2008.

Accession Number: 20080804-0235.

Comment Date: 5 p.m. Eastern Time on Friday, August 22, 2008.

Take notice that the Commission received the following electric securities filings:

Docket Numbers: ES08-54-000.

Applicants: MDU Resources Group, Inc.

Description: MDU Resources Group Inc submits an application for authority to issue short-term debt securities in the aggregate principal amount of up to $330,000,000 in the form of one or more promissory notes to finance etc.

Filed Date: 07/22/2008.

Accession Number: 20080724-0028.

Comment Date: 5 p.m. Eastern Time on Tuesday, August 12, 2008.

Docket Numbers: ES08-55-000.

Applicants: MDU Resources Group, Inc.

Description: MDU Resources Group, Inc. submits an application for authority to issue an additional 400,000 shares of company stock.

Filed Date: 07/30/2008.

Accession Number: 20080801-0084.

Comment Date: 5 p.m. Eastern Time on Wednesday, August 20, 2008.

Docket Numbers: ES08-56-000.

Applicants: MDU Resources Group, Inc.

Description: MDU Resources Group Inc. submits an application for authorization to issue up to one billion dollars worth of MDU Resources securities.

Filed Date: 07/31/2008.

Accession Number: 20080801-0106.

Comment Date: 5 p.m. Eastern Time on Thursday, August 21, 2008.

Take notice that the Commission received the following open access transmission tariff filings:

Docket Numbers: OA08-123-000.

Applicants: Midwest Independent Transmission System.

Description: Midwest Independent Transmission System Operator, Inc submits their Notification Filing pursuant to sections 19.9 and 32.5 of its Energy Markets and Open Access. Transmission Tariff of the FERC's Order 890, 890-A and 890-B.

Filed Date: 07/30/2008.

Accession Number: 20080801-0108.

Comment Date: 5 p.m. Eastern Time on Wednesday, August 20, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. E8-18455 Filed 8-8-08; 8:45 am]

BILLING CODE 6717-01-P